DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Treatment Episode Data Set (TEDS) (OMB No. 0930-0335)—Extension

The Substance Abuse and Mental Health Services Administration (SAMHSA) is requesting an extension to collect the Treatment Episode Data Set (TEDS) data collection (OMB No. 0930-0335), which expires on April 30, 2022. TEDS is a compilation of client-level substance use treatment admission and discharge data submitted by states on clients treated in facilities that receive state funds. SAMHSA is also requesting an extension to collect the client-level mental health admission and update/discharge data (MH-TEDS/MH-CLD) submitted by states on clients treated in facilities that receive state funds (also OMB No. 0930-0335).

TEDS/MH-TEDS/MH-CLD data are collected to obtain information on the number of admissions and updates/discharges at publicly funded substance use treatment and mental health services facilities and on the characteristics of clients receiving services at those facilities.

TEDS/MH-TEDS/MH-CLD also monitor trends in the demographic, substance use, and mental health characteristics of admissions. In addition, several of the data elements used to calculate performance measures for the Substance Abuse Block Grant (SABG) and Mental Health Block Grant (MHBG) applications are collected through the TEDS/MH-TEDS/MH-CLD.

Most states collect the TEDS/MH-TEDS/MH-CLD data elements from their treatment providers for their own administrative purposes and are able to submit a cross-walked extract of their data to TEDS/MH-TEDS/MH-CLD. No changes are expected in the TEDS/MH-TEDS/MH-CLD data elements that are collected.

Estimated annual burden for the separate TEDS/MH-TEDS/MH-CLD activities is as follows:

Type of activity | Number of respondents (states/ jurisdictions) | Responses per respondent | Total responses | Hours per response | Total burden hours
TEDS Admission Data | 52 | 4 | 208 | 6.25 | 1,300
TEDS Discharge Data | 52 | 4 | 208 | 8.25 | 1,716
TEDS Crosswalks | 5 | 1 | 5 | 10 | 50
MH-CLD BCI Data | 30 | 1 | 30 | 30 | 900
MH-CLD SHR Data | 30 | 1 | 30 | 5 | 150
MH-TEDS Admissions Data | 29 | 4 | 116 | 6.25 | 725
MH-TEDS Update/Discharge Data | 29 | 4 | 116 | 8.25 | 957
MH-TEDS Crosswalks | 10 | 1 | 10 | 10 | 100
Total | 59 |  | 723 |  | 5,898

Send comments to Carlos Graham, SAMHSA Reports Clearance Officer, 5600 Fishers Lane, Room 15E57A, Rockville, MD 20857 OR email a copy at carlos.graham@samhsa.hhs.gov. Written comments should be received by November 1, 2021.

Carlos Graham,
Social Science Analyst.

[FR Doc. 2021-18915 Filed 8-31-21; 8:45 am]

BILLING CODE 4162-20-P